DEPARTMENT OF THE INTERIOR

National Park Service

[NPS-NERO-GATE-21281: PPNEGATEB0, PPMVSCS1Z.Y00000]

Notice of the September to December 2016 Meeting Schedule for the Gateway National Recreation Area Fort Hancock 21st Century Advisory Committee

AGENCY: National Park Service, Interior.

ACTION: Notice of meetings.

SUMMARY: In accordance with the Federal Advisory Committee Act (5 U.S.C. Appendix 1-16), notice is hereby given of the September through December 2016 meeting schedule of the Gateway National Recreation Area Fort Hancock 21st Century Advisory Committee.

Agenda: The Committee will offer expertise and advice regarding the preservation of historic Army buildings at Fort Hancock and Sandy Hook Proving Ground National Historic Landmark into a viable, vibrant community with a variety of uses for visitors, not-for-profit organizations, residents and others. All meetings will begin at 9:00 a.m., with a public comment period at 11:30 a.m. (EASTERN). All meetings are open to the public.

ADDRESSES: The meetings will take place in the Beech Room at the Thompson Park Visitor Center, 805 Newman Springs Road, Lincroft, NJ. Thompson Park is part of the Monmouth County Park System.

DATES: The meetings will take place on the following dates: Thursday, September 8, 2016; Friday, October 14, 2016; and Friday, December 2, 2016.

FOR FURTHER INFORMATION CONTACT: Daphne Yun, Acting Public Affairs Officer, Gateway National Recreation Area, Sandy Hook Unit, 210 New York Avenue, Staten Island, New York 10305, (718) 354-4602, email GATE_BMD@nps.gov, or by visiting the park Web site at https://www.nps.gov/gate.

SUPPLEMENTARY INFORMATION: Under section 10(a)(2) of the Federal Advisory Committee Act (5 U.S.C. Appendix 1-16), the purpose of the Committee is to provide advice to the Secretary of the Interior, through the Director of the National Park Service, on the development of a reuse plan and on matters relating to future uses of certain buildings at the Fort Hancock and Sandy Hook Proving Ground National Historic Landmark which lie within Gateway National Recreation Area.

The Committee Web site, http://www.forthancock21.org, includes summaries from all prior meetings. Interested persons may present, either orally or through written comments, opinions, or information for the Committee to consider during the public meeting. Attendees and those wishing to provide comment are strongly encouraged to preregister through the contact information provided. The public will be able to comment at the meetings from 11:30 a.m. to 1:45 p.m. Written comments will be accepted prior to, during, or after the meeting. Due to time constraints during the meeting, the Committee is not able to read written public comments submitted into the record. Individuals or groups requesting to make oral comments at the public Committee meeting will be limited to no more than five minutes per speaker.

All comments will be made part of the public record and will be electronically distributed to all Committee members. Before including your address, telephone number, email address, or other personal identifying information in your written comments, you should be aware that your entire comment including your personal identifying information will be publicly available. While you may ask us in your comment to withhold your personal identifying information from public review, we cannot guarantee that we will be able to do so.

Alma Ripps,
Chief, Office of Policy.

[FR Doc. 2016-16102 Filed 7-6-16; 8:45 am]

BILLING CODE 4310-EE-P